DEPARTMENT OF DEFENSE

Department of the Army

Privacy Act of 1974; System of Records

AGENCY: Department of the Army, DOD.

ACTION: Notice to alter a system of records.

SUMMARY: The Department of the Army is altering a system of records notice in its existing inventory of record systems subject to the Privacy Act of 1974, (5 U.S.C. 552a), as amended.

DATES: This proposed action will be effective without further notice on August 27, 2003, unless comments are received which result in a contrary determination.

ADDRESSES: Army Systems of Records Notices Manager, Department of Army Freedom of Information and Privacy Acts Office, 7798 Cissna Road, Suite 205, Springfield, VA 22153-3166.

FOR FURTHER INFORMATION CONTACT: Ms. Janice Thornton at (703) 806-7137.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 9, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 2996, 61 FR 6427).

Dated: July 21, 2003.
Patricia L. Toppings,
Alternate OSD Federal Register Liaison Officer, Department of Defense.

A0380-19 SAIS

System name:

Information Assurance For Automated Information Systems (AIS) Files (April 13, 2001, 66 FR 19148).

Changes

* * * * *

—

System name:

Delete entry and replace with ‘Information Assurance For Automated Information Systems (AIS) and Defense Biometric Technology Files.’

System location:

Delete entry and replace with ‘Department of Defense Biometrics Fusion Center, 1600 Aviation Way, Bridgeport, WV 26330-9476 and at any Department of Defense system that collects, stores, accesses, retrieves, or uses biometrics technology to recognize the identity, or verify the claimed identity of an individual.’

Categories of individuals covered by the system:

Delete entry and replace with ‘Individuals covered include, but is not limited to military, civilian, and contractor personnel; military reserve personnel; and other persons requiring access to DoD information and facilities.’

Categories of records in the system:

Add ‘images,’ to entry.

Purpose(s):

Add a new paragraph ‘To control logical and physical access to DoD information and facilities by using a measurable physical or behavioral characteristic.'

* * * * *

Retrievability:

Add to entry ‘biometric template'.

* * * * *

A0380-19 SAIS

System name:

Information Assurance For Automated Information Systems (AIS) and Defense Biometric Technology Files.

System location:

Department of Defense Biometrics Fusion Center, 1600 Aviation Way, Bridgeport, WV 26330-9476, and at any Department of Defense system that collects, stores, accesses, retrieves, or uses biometrics technology to recognize the identity, or verify the claimed identity of an individual.

Categories of individuals covered by the system:

Individuals covered include, but is not limited to military, civilian, and contractor personnel; military reserve personnel; Army and Air National Guard personnel; and other persons requiring access to DoD information and facilities.

Categories of records in the system:

Operator's/user's name, Social Security Number, organization, telephone number, and office symbol; security clearance; level of access; subject interest code; user identification code; data files retained by users; assigned password; magnetic tape reel identification; abstracts of computer programs and names and phone numbers of contributors; similar relevant information; biometrics templates, images, and supporting documents.

Authority for maintenance of the system:

Pub. L. 106-246, section 112; 10 U.S.C. 3013, Secretary of the Army; 10 U.S.C. 5013, Secretary of the Navy; 10 U.S.C. 8013, Secretary of the Air Force; Department of Defense Directive 8500.1, Information Assurance (IA); Army Regulation 380-19, Information System Security; and E.O. 9397 (SSN).

Purpose(s):

To administer passwords and identification numbers for operators/users of data in automated media; to identify data processing and communication customers authorized access to or disclosure from data residing in information processing and/or communication activities; and to determine propriety of individual access into the physical data residing in automated media.

To control logical and physical access to DoD information and facilities by using a measurable physical or behavorial characteristic.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' set forth at the beginning of the Army's compilation of systems of records notices also apply to this system.

Policies and practices for storing, retrieving, accessing, retaining, and disposing of records in the system:

Storage:

Paper records in file folders and electronic storage media.

Retrievability:

Name, Social Security Number, subject, application program key word/author, and biometric template.

Safeguards:

Computerized records maintained in a controlled area are accessible only to authorized personnel. Physical and electronic access is restricted to designated individuals having a need therefore in the performance of official duties.

Retention and disposal:

Individual data remain on file while a user of computer facility; destroyed on person's reassignment of termination.

System manager(s) and address:

Chief Information Officer, Department of the Army, 107 Army Pentagon, Washington, DC 20310-0107.

Director, Department of Defense Biometrics Management Office, 2531 Jefferson Davis Highway, Arlington, VA 22202-4800.

Notification procedure:

Individuals seeking to determine whether information about themselves is contained in this system should address written inquiries to the Chief Information Officer, Department of the Army, 107 Army Pentagon, Washington, DC 20310-0107.

For verification purposes, individual should provide full name, sufficient details to permit locating pertinent records, and signature.

Record access procedures:

Individuals seeking access to information about themselves contained in this system should address written inquiries to the Chief Information Officer, Department of the Army, 107 Army Pentagon, Washington, DC 20310-0107.

For verification purposes, individual should provider full name, sufficient details to permit locating pertinent records, and signature.

Contesting record procedures:

The Army's rules for accessing records, and for contesting contents and appealing initial agency determinations are contained in Army Regulation 340-21; 32 CFR part 505; or may be obtained from the system manager.

Record source categories:

From the individual, DoD security offices, system managers, computer facility managers, automated interfaces for user codes on file at Army sites.

Exemptions claimed for the system:

None.

[FR Doc. 03-19079 Filed 7-25-03; 8:45 am]

BILLING CODE 5001-08-M